DEFENSE NUCLEAR FACILITIES SAFETY BOARD

10 CFR Part 1704

[Docket No. RM-90-1]

Rules Implementing the Government in the Sunshine Act; Correction

AGENCY: Defense Nuclear Facilities Safety Board.

ACTION: Correcting amendments.

SUMMARY: The Defense Nuclear Facilities Safety Board (Board) published a document in the Federal Register on March 7, 1991 (56 FR 9609), implementing the provisions of the Government in the Sunshine Act. Subsequently, the Fiscal Year 2013 National Defense Authorization Act further amended the Atomic Energy Act of 1954, changing and renumbering the Board's enabling legislation. This document corrects the final regulations by changing the referenced sections in the Board's rules implementing the Government in the Sunshine Act.

DATES: Effective July 21, 2014.

FOR FURTHER INFORMATION CONTACT: Richard N. Reback, Acting General Counsel, Defense Nuclear Facilities Safety Board, 625 Indiana Avenue NW., Suite 700, Washington, DC 20004-2901, (202) 694-7000.

SUPPLEMENTARY INFORMATION: This is a summary of the Board's changes to its rules implementing the Government in the Sunshine Act.

List of Subjects in 10 CFR Part 1704 Sunshine Act

Accordingly, 10 CFR Part 1704 is amended by making the following correcting amendment:

PART 1704—RULES IMPLEMENTING THE GOVERNMENT IN THE SUNSHINE ACT

1. The authority citation for part 1704 continues to read as follows:

Authority: 5 U.S.C. 552b; 42 U.S.C. 2286, 2286b(c).

2. In § 1704.4(c):

a. Redesignate paragraphs (c)(1) and (2) as paragraphs (c)(1)(i) and (ii), respectively;

b. Redesignate paragraph (c) introductory text as paragraph (c)(1); and

c. Designate the undesignated text as paragraph (c)(2) and revise it.

The revision reads as follows:

§ 1704.4 Grounds on which meetings may be closed or information may be withheld.

* * * * *

(c) * * *

(2) This exemption applies to Board meetings, or portions of meetings, involving deliberations regarding recommendations which, under 42 U.S.C. 2286d(b) and (h)(3), may not be made publicly available until after they have been received by the Secretary of Energy or the President, respectively; Defense Nuclear Facilities Safety Board.

* * * * *

Richard N. Reback,
Acting General Counsel.

[FR Doc. 2014-16778 Filed 7-18-14; 8:45 am]

BILLING CODE 3670-01-P